ENVIRONMENTAL PROTECTION AGENCY

40 CFR Part 50

[EPA-HQ-OAR-2006-0735; FRL-8563-7]

RIN 2060-AN83

Public Hearings for National Ambient Air Quality Standards for Lead

AGENCY: Environmental Protection Agency (EPA).

ACTION: Announcement of public hearings.

SUMMARY: The EPA is announcing two public hearings to be held for the proposed rule “National Ambient Air Quality Standards for Lead” which is published elsewhere in this Federal Register. The hearings will be held concurrently in Baltimore, Maryland and St. Louis, Missouri on Thursday, June 12, 2008.

In the notice of proposed rulemaking, EPA describes making revisions to the primary and secondary national ambient air quality standards (NAAQS) for lead to provide requisite protection of public health and welfare, respectively, to make corresponding revisions in data handling procedures and ambient air monitoring and reporting requirements for lead, and to provide guidance on its proposed approach for implementing the proposed revised primary and secondary standards for lead.

DATES: The public hearings will be held on June 12, 2008. Please refer to SUPPLEMENTARY INFORMATION for additional information on the public hearings.

ADDRESSES: The hearings will be held at the following locations:

1. Baltimore: Tremont Grand Historic Venue, 225 North Charles Street, Baltimore, Maryland 21201, telephone (443) 573-8444. The hearing will be held in The Marble Room on the First Floor of the hotel.

2. St. Louis: Omni Majestic Hotel, 1019 Pine Street, St. Louis, Missouri 63101, telephone (314) 436-2355. The hearing will be held in Salon A and B.

Written comments on this proposed rule may also be submitted to EPA electronically, by mail, by facsimile, or through hand delivery/courier. Please refer to the notice of proposed rulemaking for the addresses and detailed instructions for submitting written comments.

A complete set of documents related to the proposal is available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov.

The EPA Web site for the rulemaking, which includes the proposal and information about the public hearings can be found at: http://www.epa.gov/air/lead/actions.html.

FOR FURTHER INFORMATION CONTACT: If you would like to speak at the public hearings or have questions concerning the public hearings, please contact Ms. Tricia Crabtree at the address given below under SUPPLEMENTARY INFORMATION.

Questions concerning the “National Ambient Air Quality Standards for Lead” proposed rule should be addressed to Dr. Deirdre Murphy, U.S. EPA, Office of Air Quality Planning and Standards, Health and Environmental Impacts Division (C504-06), Research Triangle Park, NC 27711, telephone (919) 541-0729, e-mail: Murphy.deirdre@epa.gov.

SUPPLEMENTARY INFORMATION: The proposal for which EPA is holding the public hearings is published elsewhere in this Federal Register and is also available on the following Web site: http://www.epa.gov/air/lead/actions.html.

The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be received by the last day of the comment period, as specified in the proposal.

The two public hearings will be held concurrently in Baltimore, Maryland and St. Louis, Missouri on June 12, 2008. The public hearings will begin each day at 9 a.m. and continue into the evening until 9 p.m. (local time) or later, if necessary, depending on the number of speakers wishing to participate. The EPA will make every effort to accommodate all speakers that arrive and register before 9 p.m. The EPA is scheduling lunch breaks from 12:30 p.m. until 2 p.m. and dinner breaks from 6 p.m. until 7:30 p.m. If you would like to present oral testimony at the hearings, please notify Ms. Tricia Crabtree (C504-02), U.S. EPA, Research Triangle Park, NC 27711. The preferred method for registering is by e-mail (crabtree.tricia@epa.gov). Ms. Crabtree may be reached by telephone at (919) 541-5688. She will arrange a general time slot for you to speak. The EPA will make every effort to follow the schedule as closely as possible on the day of the hearings.

Oral testimony will be limited to five (5) minutes for each commenter to address the proposal. We will not be providing equipment for commenters to show overhead slides or make computerized slide presentations unless we receive special requests in advance. Commenters should notify Ms. Crabtree if they will need specific audiovisual (AV) equipment. Commenters should also notify Ms. Crabtree if they need specific translation services for non-English speaking commenters. The EPA encourages commenters to provide written versions of their oral testimonies either electronically on computer disk or CD ROM or in paper copy.

The hearing schedules, including lists of speakers, will be posted on EPA's Web site for the proposal at http://www.epa.gov/air/lead/actions.html prior to the hearings. Verbatim transcripts of the hearings and written statements will be included in the rulemaking dockets.

How Can I Get Copies Of This Document and Other Related Information?

The EPA has established a docket for this action under Docket ID No. EPA-HQ-OAR-2006-0735. The EPA has also developed a Web site for lead NAAQS materials, including the notice of proposed rulemaking, at the address given above. Please refer to the notice of proposed rulemaking for detailed information on accessing information related to the proposal.

Dated: April 29, 2008.
Jennifer Edmonds,
Acting Director, Office of Air Quality Planning and Standards.

[FR Doc. E8-10812 Filed 5-19-08; 8:45 am]

BILLING CODE 6560-50-P